DEPARTMENT OF HOMELAND SECURITY

Federal Emergency Management Agency

44 CFR Part 67

[Docket No. FEMA-D-7636]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood elevations and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground *Elevation in feet (NGVD) •Elevation in feet (NAVD): Existing | #Depth in feet above ground *Elevation in feet (NGVD) •Elevation in feet (NAVD): Modified | Communities affected
FLORIDA
Alachua County
Little Hatchet Creek | Approximately 0.59 mile upstream of the entrance to Gum Root Swamp | •86 | •85 | Alachua County (Unincorporated Areas).
| Approximately 4,400 feet upstream of the entrance to Gum Root Swamp | •94 | •89 |
Little Monteocha Creek | At the confluence with Monteocha Creek | None | •102 | Alachua County (Unincorporated Areas).
| Approximately 100 feet upstream of County Route 340 | None | 135 |
Monteocha Creek | Approximately 1,700 feet upstream of the confluence with Sante Fe River | •95 | •96 | Alachua County (Unincorporated Areas).
| Approximately 2.48 miles upstream of County Route 340 | None | •160 |
Rhoda Branch | At the confluence with Sunshine Lake | None | •91 | Alachua County (Unincorporated Areas).
| Approximately 440 feet upstream of County Route 231 | None | •136 |
Rocky Creek | Approximately 1,220 feet upstream of the Santa Fe River | •84 | •85 | Alachua County (Unincorporated Areas).
| Approximately 1.74 miles upstream of County Route 329 | None | •174 |
Rocky Creek Tributary | At the confluence with Rocky Creek | None | •114 | Alachua County (Unincorporated Areas).
| Approximately 1.48 miles upstream of the confluence with Rocky Creek | None | •139 |
Grass Prairie |  | None | •64 | Alachua County (Unincorporated Areas).
Ledwith Lake |  | None | •69 | Alachua County (Unincorporated Areas).
Levy Lake East |  | None | •65 | Alachua County (Unincorporated Areas).
Lochloosa Lake |  | None | •61 | Alachua County (Unincorporated Areas).
Mud Pond |  | None | •71 | Alachua County (Unincorporated Areas).
Orange Lake |  | None | •61 | Alachua County (Unincorporated Areas).
Sunshine Lake |  | None | •89 | Alachua County (Unincorporated Areas).
Unnamed Lake West of Sunshine Lake | Approximately 1,500 feet south of the intersection of State Highway 235 and State Highway 329 | None | •95 |
Kanapaha Prairie |  | None | •64 | Alachua County (Unincorporated Areas).
Little Manteocha Creek Diversion | At the confluence with Little Manteocha Creek | None | •107 | Alachua County (Unincorporated Areas).
| Divergence from Little Manteocha Creek | None | •122 |
Little Manteocha Creek Diversion Tributary | At the confluence with Little Manteocha Creek Diversion | None | •108 | Alachua County (Unincorporated Areas).
| Approximately 100 feet upstream of County Road 31A | None | •110 |
Levy Lake-West |  | None | •65 | Alachua County (Unincorporated Areas).
Levy Lake-North |  | None | •65 | Alachua County (Unincorporated Areas).
Kanapaha Sink |  | None | •64 | Alachua County (Unincorporated Areas).
Unnamed flooding area between Levy Lake and Zedwith Lake | Connecting channel between Levy Lake-East and Ledwith Lake | None | #1 | Alachua County (Unincorporated Areas).
Unnamed Pond West of Ledwith Lake | Approximately 0.96 mile west of Lake Ledwith on the Marion County boundary | None | •76 | Alachua County (Unincorporated Areas).
Unnamed Pond North of Mud Pond | Approximately 1,400 feet north of Mud Pond | None | •67 | Alachua County (Unincorporated Areas).
Unnamed Ponding Area No. 1 South Levy Lake West | Approximately 1,000 feet south of Levy Lake-West | None | •65 | Alachua County (Unincorporated Areas).
Unnamed Ponding Area No. 2 South of Levy Lake-West | Approximately 2,000 feet south of Levy Lake-West | None | •66 | Alachua County (Unincorporated Areas).
Hogtown Creek Tributary 1 | Approximately 400 feet downstream of Northwest 53rd Avenue | None | •155 | City of Gainesville.
| Approximately 300 feet upstream of Northwest 53rd Avenue | None | •167 |
Alachua County (Unincorporated Areas)
Maps available for inspection at the Alachua County Department of Public Works, 5620 Northwest 120th Lane, Gainesville, Florida.
Send comments to Mr. Randall H. Reid, Alachua County Manager, P.O. Box 2877, 12 Southeast 1st Street, Gainesville, Florida 32602-2877.
City of Gainesville
Maps available for inspection at the City of Gainesville Department of Public Works, 306 Northeast 6th Avenue, Gainesville, Florida.
Send comments to The Honorable Pegeen Hanrahan, Mayor of the City of Gainesville, 200 East University Avenue, P.O. Box 490, Gainesville, Florida 32602.
NEW HAMPSHIRE
Cheshire County
Connecticut River | Approximately 1.2 miles downstream of Boston and Maine Railroad | •228 | •229 | Towns of Hinsdale, Chesterfield, Walpole, and Westmoreland.
| At the upstream county boundary | •300 | •301 |
Sprague Brook | At the confluence with Connecticut River | •226 | •227 | Town of Hinsdale.
| Approximately 5 feet downstream of State Route 19 | •226 | •227 |
Blaneherd Brook | At the confluence with Connecticut River | •249 | •253 | Town of Walpole.
| Approximately 200 feet upstream of State Route 12 and 123 | •252 | •253 |
Ashuelot River | At the downstream Town of Sullivan corporate limit, approximately 1,480 feet downstream of State Route 10 | None | •846 | Town of Sullivan.
| At the upstream Town of Sullivan corporate limits, approximately 145 feet downstream of State Route 10 | None | •862 |
Town of Chesterfield
Maps available for inspection at the Town of Chesterfield Selectmen's Office, 504 Route 63, Chesterfield, New Hampshire.
Send comments to Mr. Chester Greenwood, Chairman of the Town of Chesterfield Board of Selectmen, Chesterfield Town Office, P.O. Box 175, Chesterfield, New Hampshire 03443-0175.
Town of Hinsdale
Maps available for inspection at the Hinsdale Town Hall, 11 Main Street, Hinsdale, New Hampshire.
Send comments to Mr. William Nebelski, Chairman of the Town of Hinsdale Board of Selectmen, Hinsdale Town Office, P.O. Box 13, Hinsdale, New Hampshire 03451-0013.
Town of Sullivan
Maps available for inspection at the Town of Sullivan Selectmen's Office, 452 Centre Street, Sullivan, New Hampshire.
Send comments to Mr. Richard Hotchkiss, Chairman of the Town of Sullivan Board of Selectmen, P.O. Box 110, Sullivan, New Hampshire 03445.
Town of Walpole
Maps available for inspection at the Walpole Town Hall, 34 Elm Street, Walpole, New Hampshire.
Send comments to Mr. Sheldon Sawyer, Chairman of the Walpole Board of Selectmen, P.O. Box 729, Walpole, New Hampshire 03608-0729.
Town of Westmoreland
Maps available for inspection at the Town of Westmoreland Selectmen's Office, 780 Route 63, Westmoreland, New Hampshire.
Send comments to Mr. David Putnam, Chairman of the Town of Westmoreland Board of Selectmen, P.O. Box 55, Westmoreland, New Hampshire 03467.
NEW HAMPSHIRE
Sullivan County
Connecticut River | Approximately 0.5 mile upstream of the downstream County boundary | •301 | •300 | Towns of Charlestown, Cornish, Plainfield, and City of Claremont.
| At County boundary | •354 | •344
Beaver Brook No. 1 | At the confluence with Connecticut River | •306 | •308 | Town of Charlestown.
| Approximately 1.3 miles upstream of the confluence | •307 | •308
Little Sugar River | At the confluence with Connecticut River | •307 | •310 | Town of Charlestown.
| Approximately 1,625 feet upstream of the confluence with Connecticut River | •309 | •310
Ox Brook | At the confluence with Connecticut River | •307 | •311 | Town of Charlestown.
| Approximately 1,420 feet upstream of the confluence | •310 | 311
Blow-Me-Down Brook | At the confluence with Connecticut River | •333 | •330 | Town of Cornish.
| Approximately 1.2 miles upstream of the confluence | •333 | •320
Sugar River | At the confluence with Connecticut River | •318 | •320 | City of Claremont.
| Approximately 1.2 miles upstream of the confluence with Connecticut River | •319 | •320
North Branch Sugar River | Approximately 540 feet downstream of corporate limits | •513 | •514 | Town of Croydon.
| Approximately 60 feet downstream of corporate limits | •513 | •515
Town of Charlestown
Maps available for inspection at the Charlestown Town Hall, 26 Railroad Street, Charlestown, New Hampshire.
Send comments to Ms. Brenda Ferland, Chairman of the Town of Charlestown Board of Selectmen, P.O. Box 385, Charlestown, New Hampshire 03603.
City of Claremont
Maps available for inspection at the City of Claremont Planning and Development Office, 14 North Street, Claremont, New Hampshire.
Send comments to Mr. Guy Santagate, Claremont City Manager, Claremont City Hall, 58 Opera House Square, Claremont, New Hampshire 03743-7014.
Town of Cornish
Maps available for inspection at the Cornish Town Offices, 488 Townhouse Road, Cornish, New Hampshire.
Send comments to Mr. William Gallagher, Chairman of the Town of Cornish Board of Selectmen, 488 Townhouse Road, Cornish, New Hampshire 03745.
Town of Croydon
Maps available for inspection at the Croydon Town Office, 879 New Hampshire Route 10, Croydon, New Hampshire.
Send comments to Mr. James Harding, Chairman of the Town of Croydon Board of Selectmen, Croydon Town Office, 879 New Hampshire Route 10, Croydon, New Hampshire 03733.
NORTH CAROLINA | Bladen County
Bakers Creek | At the confluence with Cape Fear River | None | •54 | Unincorporated Areas of Bladen County.
| Approximately 2.1 miles upstream of Owen Hill Road | None | •79
Black River | At the Bladen/Pender County boundary | None | •16 | Unincorporated Areas of Bladen County.
| At the confluence with South River | None | •26
Browns Creek | At the confluence with Cape Fear River | None | •48 | Unincorporated Areas of Bladen County, Town of Elizabethtown.
| Approximately 2.2 miles upstream of Peanut Plant Road | None | •101
Browns Creek Tributary | At the confluence with Browns Creek | None | •96 | Unincorporated Areas of Bladen County, Town of Elizabethtown.
| Approximately 0.9 mile upstream of Cromartie Road | None | •120
Cape Fear River | At the Bladen/Pender County boundary | None | •18 | Unincorporated Areas of Bladen County, Town of Elizabethtown.
| Approximately 190 feet downstream of the Bladen/Cumberland County boundary | None | •70
Carvers Creek | At the confluence with Cape Fear River | None | •31 | Unincorporated Areas of Bladen County.
| Approximately 1.6 miles upstream of Doctor Robinson Road | None | •61
Colly Creek | At the Bladen/Pender County boundary | None | •18 | Unincorporated Areas of Bladen County, Town of White Lake.
| Approximately 1,600 feet upstream of Susie Sand Hill Road | None | •85
Cypress Creek | At the confluence with South River | None | •62 | Unincorporated Areas of Bladen County.
| Approximately 0.5 mile upstream of NC 210 | None | •76
Donoho Creek | At the confluence with Cape Fear River | None | •35 | Unincorporated Areas of Bladen County.
| Approximately 800 feet upstream of NC Highway 87 | None | •69
Ellis Creek | At the confluence with Cape Fear River | None | •54 | Unincorporated Areas of Bladen County.
| Approximately 3.0 miles upstream of Dowd Dairy Road | None | •75
Georgia Branch | At the confluence with Cape Fear River | None | •68 | Unincorporated Areas of Bladen County.
| Approximately 1.6 miles upstream of Glengerry Hill Road | None | •128
Hammond Creek | At the confluence with Cape Fear River | None | •43 | Unincorporated Areas of Bladen County.
| Approximately 400 feet miles upstream of Airport Road | None | •43
Harrisons Creek | At the confluence with Cape Fear River | None | •59 | Unincorporated Areas of Bladen County.
| Approximately 1.2 miles upstream of Camp Bowers Trial Dam | None | •71
Kitchens Branch | At the confluence with Carvers Creek | None | •42 | Unincorporated Areas of Bladen County.
| Approximately 300 feet upstream of Cord Road | None | •69
Mines Creek | At the confluence with Georgia Branch | None | •68 | Unincorporated Areas of Bladen County.
| Approximately 0.8 miles upstream of Dam | None | •120
Plummers Run | At the confluence with Cape Fear River | None | •30 | Unincorporated Areas of Bladen County.
| Approximately 240 feet upstream of Brighten Road | None | •64
Plummers Run Tributary | At the confluence with Plummers Run | None | •43 | Unincorporated Areas of Bladen County.
| Approximately 0.5 mile upstream of the confluence with Plummers Run | None | •52
Pub Mill Creek | At the confluence with Turnbull Creek | None | •48 | Unincorporated Areas of Bladen County.
| Approximately 0.6 mile upstream of Unnamed Road | None | •56
South River | At the confluence with Black River | None | •26 | Unincorporated Areas of Bladen County.
| At the Bladen/Cumberland County boundary | None | •71
Steep Run | At the confluence with Cape Fear River | None | •28 | Unincorporated Areas of Bladen County.
| Approximately 1.1 miles upstream of NC Highway 87 | None | •54
Turnbull Creek | At the confluence with Cape Fear River | None | •48 | Unincorporated Areas of Bladen County.
| Approximately 2,100 feet upstream of NC 242 | None | •84
Whites Creek | At the confluence with Hammond Creek | None | •43 | Unincorporated Areas of Bladen County.
| Approximately 470 feet upstream of Airport Road | None | •43
Town of Elizabethtown
Maps are available for inspection at Elizabethtown Town Hall, 805 West Broad Street, Elizabethtown, NC 28337.
Send comments to The Honorable Kenneth Kornegay, Mayor of the Town of Elizabethtown, P.O. Box 716, Elizabethtown, NC 28337.
Town of White Lake
Maps are available for inspection at White Lake Town Hall, 1879 White Lake Drive, White Lake, NC 28337.
Send comments to The Honorable Goldston Womble, Jr., Mayor of the Town of White Lake, P.M.B. 7250, White Lake, NC 28337.
Unincorporated Areas of Bladen County
Maps are available for inspection at Bladen County Courthouse, 106 East Broad Street, Room 107, Elizabethtown, NC 28337.
Send comments to Mr. Gregory Martin, Bladen County Manager, P.O. Box 1048, Elizabethtown, NC 28337.
NORTH CAROLINA
Cumberland County
Beaver Creek | At the confluence with Little Rockfish Creek | •118 | •121 | Unincorporated Areas of Cumberland County, City of Fayetteville, Town of Hope Mills.
| Approximately 0.9 mile upstream of All-American Expressway | None | •199
Beaver Creek Tributary A | At the confluence with Beaver Creek Approximately 1,700 feet upstream of the confluence with Beaver Creek | •134 •134 | •135 •135 | Unincorporated Areas of Cumberland County, City of Fayetteville.
Beaver Dam Creek | At the confluence with South River Approximately 0.3 mile upstream of Spencer Road | None None | •74 •106 | Unincorporated Areas of Cumberland County.
Big Branch | At the confluence with Beaver Creek Approximately 1.4 miles upstream of the confluence with Beaver Creek | •193 None | •191 •219 | Unincorporated Areas of Cumberland County, City of Fayetteville.
Big Creek | At the confluence with South River Approximately 5.1 miles upstream of Maxwell Road | None None | •102 •145 | Unincorporated Areas of Cumberland County.
Black River | At the confluence with South River | None | •125 | Unincorporated Areas of Cumberland County.
| At the Cumberland/Harnett County boundary | None | •140
Bones Creek | At the confluence with Little Rockfish Creek | •144 | •146 | Unincorporated Areas of Cumberland County.
| Approximately 2.7 miles upstream of Morganton Road | None | •225
Browns Swamp | At the confluence with South River | None | •111 | Unincorporated Areas of Cumberland County.
| Approximately 650 feet upstream of South River School Road | None | •128
Browns Swamp Tributary 1 | At the confluence with Browns Swamp | None | •111 | Unincorporated Areas of Cumberland County.
| Approximately 650 feet upstream of Kennell Road | None | •124
Buck Creek | At the confluence with Big Creek | None | •108 | Unincorporated Areas of Cumberland County.
| Approximately 0.9 miles upstream of the confluence with Big Creek | None | •113
Buckhead Creek | At the confluence with Little Rockfish Creek | •105 | •112 | Unincorporated Areas of Cumberland County.
| Approximately 0.8 miles upstream of Raeford Road | None | •198
Cape Fear River Tributary 2 | Approximately 0.7 mile upstream of the confluence with Cape Fear River | •96 | •97 | Unincorporated Areas of Cumberland County Town of Wade.
| Approximately 0.4 miles upstream of Interstate 95 | None | •131
Cold Camp Creek | At the confluence with Galberry Swamp | None | •144 | Unincorporated Areas of Cumberland County.
| Approximately 500 feet downstream of Interstate 95 | None | •165
Cold Camp Creek Tributary 1 | At the confluence with Cold Camp Creek | None | •145 | Unincorporated Areas of Cumberland County.
| Approximately 1,100 feet upstream of Canady Pond Road | None | •157
Cold Camp Creek Tributary 2 | At the confluence with Cold Camp Creek | None | •153 | Unincorporated Areas of Cumberland County.
| Approximately 0.8 mile upstream of John McMillan Road | None | •166
Cypress Creek | At the confluence with Little River | None | •165 | Unincorporated Areas of Cumberland County.
| Approximately 1.7 miles upstream of West Manchester Road | None | •204
Galberry Swamp | At the Cumberland/Bladen County boundary | None | •134 | Unincorporated Areas of Cumberland.
| At the confluence with Cold Camp Creek and Buckhorn Swamp | None | •144
Gum Swamp | At the confluence with South River | None | •94 | Unincorporated Areas of Cumberland County.
| Approximately 0.9 mile upstream of Hollow Bridge Road | None | •103
Hector Creek | At the confluence with Little River | None | •178 | Unincorporated Areas of Little River Cumberland County.
| At the Cumberland/Harnett County boundary | None | •194
Jumping Run Creek | Approximately 1,250 feet upstream of NC 210 (Lillington Highway) | None | •136 | Unincorporated Areas of Cumberland County.
| At the Cumberland/Harnett County boundary | None | •161
Kirks Mill Creek | At the confluence with Willis Creek | None | •73 | Unincorporated Areas of Cumberland County.
| Approximately 500 feet upstream of Point East Drive | None | •84
Little River Tributary 1 | At the confluence with Little River | None | •112 | Unincorporated Areas of Cumberland County.
| Approximately 1.3 miles upstream of the confluence with Lower Little River | None | •138 | Cumberland County.
Little River Tributary 2 | At the confluence with Little River | •146 | •144 | Unincorporated Areas of Cumberland County, Town of Spring Lake.
| Approximately 0.7 mile of upstream of McCormick Road | None | •284
Little River Tributary 3 | At the confluence with Little River Tributary 2 | None | •154 | Unincorporated Areas of Cumberland County.
| Approximately 300 feet upstream of Chapel Hill Road | None | •209
Little Rockfish Creek | Approximately 850 feet upstream of Cameron Road | •81 | •82 | Unincorporated Areas of Cumberland County, Town of Hope Mills.
| At the confluence with Bones Creek | •144 | •146
Long Branch | At the confluence with Willis Creek | None | •95 | Unincorporated Areas of Cumberland County.
| Approximately 1.2 miles upstream of the confluence with Willis Creek | None | •116
Lower Little River | Approximately 1.1 miles upstream of Mill Road | None | •103 | Unincorporated Areas of Cumberland County, Town of Spring Lake.
| At the Cumberland/Hoke County boundary | None | •179
Mingo Swamp | At the confluence with South River | None | •127 | Unincorporated Areas of Cumberland County.
| At the Cumberland/Sampson/Harnett County boundary | None | •134
Muddy Creek | At the confluence with Little River | •152 | •150 | Unincorporated Areas of Cumberland County.
| At the Cumberland/Harnett County boundary | None | •175
Peters Creek | At the Cumberland/Bladen County boundary | None | •71 | Unincorporated Areas of Cumberland County.
| Approximately 1,400 feet upstream of C.S. Faircloth Road | None | •94
Reese Creek | Approximately 1,100 feet upstream of Locks Creek | •83 | •84 | Unincorporated Areas of Cumberland County.
| Approximately 320 feet upstream of Murphy Road | None | •137
Rockfish Creek | Approximately 10 feet downstream of Calico Street | •82 | •81 | Unincorporated Areas of Cumberland County, Town of Hope Mills.
| At the Cumberland/Hoke County boundary | •125 | •122
Sandy Creek | At the confluence with South River | None | •97 | Unincorporated Areas of Cumberland County, Town of Stedman.
| Approximately 375 feet upstream of Horne Farm Road | None | •120
South River | At the Cumberland/Bladen/Sampson County boundary | None | •71 | Unincorporated Areas of Cumberland County, Town of Falcon.
| Approximately 0.7 mile upstream of the confluence of Black River | None | •127
South River Tributary 1 | At the confluence with South River | None | •117 | Unincorporated Areas of Cumberland County.
| Approximately 1.1. miles upstream of Smithfield Road | None | •175
South River Tributary 2 | At the confluence with South River Tributary 1 | None | •122 | Unincorporated Areas of Cumberland County.
| Approximately 0.4 mile upstream of Sambo Jackson Road | None | •157
South River Tributary 3 | At the confluence with South River | None | •123 | Unincorporated Areas of Cumberland County, Town of Falcon.
| Approximately 0.7 mile of Falcon upstream of the confluence with South River | None | •139
South River Tributary 4 | Approximately 600 feet upstream of the confluence with South River | None | •127 | Unincorporated Areas of Cumberland County.
| Approximately 0.5 mile upstream of Rhodes Pond Road | None | •138
Stewarts Creek | At the confluence with Rockfish Creek | •125 | •122 | Unincorporated Areas of Cumberland County.
| At the Cumberland/Hoke County boundary | None | •199
Stewarts Creek (North) | Approximately 0.8 mile Morganton Road | None | •204 | Unincorporated Areas of upstream of Cumberland County, City of Fayetteville.
| Approximately 1.4 mile upstream of Morgantown Road | None | •229
Swans Creek | At the confluence with Willis Creek | None | •95 | Unincorporated Areas of Cumberland County.
| Approximately 470 feet upstream of Yarborough Road | None | •109
Tank Creek | At the confluence with Little River | •150 | •147 | Unincorporated Areas of Cumberland County, Town of Spring Lake.
| Approximately 50 feet upstream of Railroad | •176 | •175
Willis Creek | Approximately 500 feet downstream of Highway 87 | •68 | •69 | Unincorporated Areas of Cumberland County.
| At the confluence of Swans Creek and Long Branch | None | •95
City of Fayetteville
Maps are available for inspection at The City of Fayetteville Zoning Department, 433 Hay Street, Fayetteville, NC.
Send comments to Mr. Roger Stancil, Fayetteville City Manager, 433 Hay Street, Fayetteville, NC 28301.
Town of Falcon
Maps are available for inspection at the Falcon Town Hall, 7156 South West Street, Falcon, NC.
Send comments to The Honorable Wayne Lucas, Mayor of the Town of Falcon, P.O. Box 112, Falcon, NC 28342.
Town of Hope Mills
Maps are available for inspection at the Hope Mills Town Hall, 5770 Rockfish Road, Hope Mills, NC.
Send comments to The Honorable Edwin Deaver, Mayor of the Town of Hope Mills, P.O. Box 127, Hope Mills, NC 28348.
Town of Spring Lake
Maps are available for inspection at the Spring Lake Town Hall, 300 Ruth Street, Spring Lake, NC.
Send comments to The Honorable Ethel Clark, Mayor of the Town of Spring Lake, P.O. Box 617, Spring Lake, NC 28390.
Town of Stedman
Maps are available for inspection at the Stedman Town Hall, 5110 Front Street, Stedman, NC.
Send comments to Ms. Connie Spell, Stedman Town Administrator, P.O. Box 220, Stedman, NC 28391.
Town of Wade
Maps are available for inspection at the Wade Town Hall, 7128 Main Street, Wade, NC.
Send comments to The Honorable Huell Aekins, Mayor of the Town of Wade, P.O. Box 127, Wade, NC 28395.
Unincorporated Areas of Cumberland County
Maps are available for inspection at the Cumberland County Mapping Department, 117 Dick Street, Fayetteville, NC.
Send comments to Mr. James E. Martin, Cumberland County Manager, P.O. Box 1829, Fayetteville, NC 28301.
NORTH CAROLINA
Guilford County
Back Creek | At the Alamance/Guilford County Boundary | None | •579 | Unincorporated Areas of Guilford County.
| Approximately 150 feet upstream of SR 100 | None | •644
Back Creek Tributary 2 | At the confluence with Back Creek | None | •589 | Unincorporated Areas of Guilford County.
| At the Alamance/Guilford County Boundary | None | •634
Beaver Creek | At the Alamance/Guilford County Boundary | None | •569 | Unincorporated Areas of Guilford County.
| Approximately 0.8 mile upstream of Mount Hope Church Road | None | •668
Beaver Creek Tributary | At the confluence with Beaver Creek | None | •592 | Unincorporated Areas of Guilford County.
| Approximately 0.7 mile upstream of Brick Church Road | None | •631
Benaja Creek | Approximately 1.2 miles upstream of Railroad Crossing | None | •712 | Unincorporated Areas of Guilford County.
| Approximately 1.4 miles upstream of Railroad Crossing | None | •718
Big Alamance Creek | At the confluence with Big Alamance Creek Tributary 1 | None | •686 | Unincorporated Areas of Guilford County, Town of Pleasant Garden.
| Approximately 1.3 miles upstream of Minder Road | None | •757
Big Alamance Creek Tributary 3 | At the confluence with Big Alamance Creek | None | •589 | Unincorporated Areas of Guilford County.
| Approximately 325 feet upstream of Thacker Dairy Road | None | •613
Big Alamance Creek Tributary 4 | At the confluence with Big Alamance Creek | None | •592 | Unincorporated Areas of Guilford County.
| Approximately 0.4 mile upstream of Alamance Church Road | None | •672
Big Alamance Creek Tributary 8 | At the confluence with Big Alamance Creek | None | •658 | Unincorporated Areas of Guilford County, Town of Pleasant Garden.
| Approximately 100 feet upstream of Hagon Stone Park Road | None | •712
Big Alamance Creek Tributary 9 | At the confluence with Big Alamance Creek Tributary 8 | None | •663 | Unincorporated Areas of Guilford County.
| Approximately 0.8 mile upstream of Fieldview Road | None | •713
Boulding Branch | Approximately 50 feet upstream of Montileu Avenue | None | •845 | City of High Point.
| At North Centennial Street | None | •888
Boulding Branch Tributary 1 | At the confluence with Boulding Branch | None | •775 | City of High Point.
| Approximately 1,350 feet upstream of Hickory Lane | None | •844
Boulding Branch Tributary 2 | At the confluence with Boulding Branch | None | •794 | City of High Point.
| Approximately 350 feet upstream of Waynick Street | None | •838
Boulding Branch Tributary 3 | At the confluence with Boulding Branch | None | •797 | City of High Point.
| Approximately 1,000 feet upstream of McGuinn Drive | None | •849
Brush Creek (Stream No. 54) | Approximately 1,600 feet upstream of Lewiston Road | None | •772 | City of Greensboro, Unincorporated Areas of Guilford County.
| Approximately 1,550 feet upstream of Airport Center Drive | None | •879
Brush Creek Tributary | At the confluence with Brush Creek | None | •819 | Unincorporated Areas of Guilford County, City of Greensboro.
| Approximately 1.5 miles upstream of Airport Parkway | None | •924
Bull Run | At the confluence with Deep River (#1) | •705 | •704 | Unincorporated Areas of Guilford County, City of Greensboro, Town of Jamestown.
| Approximately 1,000 feet upstream of Ruffin Road | None | •845
Bull Run (Stream No. 28) | At the confluence with Deep River (#1) | •705 | •704 | Unincorporated Areas of Guilford County, City of Greensboro.
| Approximately 1,000 feet upstream of Ruffin Road | None | •845
Bull Run Tributary (Stream No. 29) | At the confluence with Bull Run | •777 | •778 | City of Greensboro.
| Approximately 330 feet upstream of Old Fox Trail | None | •808
Chocolate Creek | At the confluence with North Prong Stinking Quarter Creek | None | •616 | Unincorporated Areas of Guilford County.
| Approximately 3 miles upstream of Alamance Church Road | None | •687
Copper Branch | At the confluence with Deep River (#1) | None | •699 | City of High Point, Unincorporated Areas of Guilford County.
| Approximately 600 feet upstream of I-85 | None | •822
Deep River Tributary 3 (#29a) | Approximately 50 feet upstream of Edinburgh Drive | None | •762 | City of High Point.
| Approximately 0.7 mile upstream of Edinburgh Drive | None | •806
Deep River Tributary 30 | At the confluence with West Fork Deep River (#2) | None | •762 | City of High Point.
| Approximately 0.5 mile upstream of the confluence with West Fork Deep River (#2) | None | •800
Deep River Tributary 31 | At the confluence with West Fork Deep River (#2) | None | •778 | City of High Point.
| Approximately 650 feet upstream of Arden Place | None | •863 |
East Fork Deep River (Stream No. 23) | Approximately 100 feet upstream of Regency Drive | •798 | •799 | City of Greensboro, City of High Point, Unincorporated Areas of Guilford County.
| Approximately 1,275 fee upstream of Industrial Village | None | •870 |
East Fork Deep River Tributary 1 | At the confluence with East Deep River | None | •842 | City of Greensboro.
| Approximately 0.4 mile upstream of U.S. Route 421 | None | •860 |
East Fork Deep River Tributary 2 | At the confluence with East Fork Deep River | None | •790 | City of Greensboro, City of High Point, Unincorporated Areas of Guilford County.
| Approximately 1,300 feet upstream of I-40 | None | •866 |
Haw River Tributary 15 | Approximately 0.5 mile upstream of the confluence with Haw River | None | •637 | Unincorporated Areas of Guilford County.
| At the Alamance/Guilford County Boundary | None | •665 |
Haw River Tributary 19 | Approximately 400 feet upstream of the confluence with Haw River | None | •844 | Unincorporated Areas of Guilford County.
| Approximately 400 feet upstream of the confluence with Haw River | None | •901 |
Hiatt Branch | Approximately 1,650 feet downstream of U.S. 311 | None | •823 | City of High Point.
| Approximately 0.5 mile upstream of U.S. 311 | None | •870 |
Horney Branch | Approximately 100 feet upstream of Old Mill Road | None | •839 | City of High Point.
| Approximately 500 feet upstream of Viking Drive | None | •864 |
Horsepen Creek (Stream No. 55 | At the confluence with Reedy Fork | •743 | •742 | City of Greesboro.
| Approximately 200 feet downstream of Distribution Drive | None | •835 | Unincorporated Areas of Guilford County.
Horsepen Creek Tributary 1 (Stream No. 57) | At the confluence with Horsepen Creek | •757 | •756 | City of Greensboro.
| Approximately 1,375 feet upstream of Derbyshire Drive | None | •833 |
Horsepen Creek, Tributary 2 (Stream No. 56) | At the confluence with Horsepen Creek | •763 | •761 |
| Approximately 1,800 feet upstream of Hobbs Road | None | •853 |
Horsepen Creek, Tributary A | At the confluence with Horsepen Creek Tributary 2 | None | •777 | City of Greensboro.
| Approximately 300 feet upstream of Friendly Acres Drive | None | •811 |
Horsepen Creek, Tributary B | At the confluence with Horsepen Creek Tributary 2 | None | •778 | City of Greensboro.
| Approximately 1.1 miles upstream of Hobbs Road | None | •860 |
Horsepen Creek, Tributary C | At the confluence with Horsepen Creek | None | •758 | City of Greensboro, Unincorporated Areas of Guilford County.
| Approximately 1,100 feet upstream of Four Farms Road | None | •784 |
Horsepen Creek, Tributary D | At the confluence with Horsepen Creek | None | •772 | City of Greensboro, Unincorporated Areas of Guilford County.
| Approximately 0.8 mile upstream of Chance Road | None | •830 | Unincorporated Areas of Guilford County.
Horsepen Creek, Tributary E | At the confluence with Horsepen Creek | None | •775 | City of Greensboro.
| Approximately 150 feet upstream of Green Meadow Drive | None | •826 |
Horsepen Creek, Tributary F | At the confluence with Horsepen Creek | None | •786 | City of Greensboro.
| Approximately 400 feet upstream of Joseph Bryan Boulevard | None | •822 | Unincorporated Areas of Guilford County.
Horsepen Creek, Tributary G | At the confluence with Horsepen Creek | None | •796 | City of Greensboro.
| Approximately 0.6 mile upstream of the confluence with Horsepen Creek | None | •828 | Unincorporated Areas of Guilford County.
Horsepen Creek, Tributary H | At the confluence with Horsepen Creek | None | •796 | City of Greensboro.
| Approximately 0.4 mile upstream of Bollinger Road | None | •804 |
Horsepen Creek, Tributary I | At the confluence with Horsepen Creek Tributary H | None | •807 | City of Greensboro.
| Approximately 100 feet upstream of Friendway Road | None | •861 |
Horsepen Creek, Tributary J | At the confluence with Horsepen Creek Tributary H | None | •806 | City of Greensboro.
| Approximately 700 feet upstream of Friendly Avenue | None | •864 |
Horsepen Creek, Tributary K | At the confluence with Horsepen Creek | None | •823 | City of Greensboro.
| Approximately 250 feet upstream of North Chimney Rock Road | None | •888 |
Jordan Branch | At the confluence with North Buffalo Creek | None | •704 | City of Greensboro Unincorporated Areas of Guilford County.
| Approximately 50 feet downstream of Railroad | None | •769 |
Knight Road Branch | At the confluence with West Ford Deep River (#2) | None | •819 | City of High Point, Unincorporated Areas of Guilford County.
| At the Guilford/Forsyth County Boundary | None | •838 |
Lake Hamilton | At the confluence with North Buffalo Creek | None | •785 | City of Greensboro.
| Approximately 70 feet upstream of East Kemp Road | None | •814 |
Mears Fork Creek | At the upstream side of Strader Road | None | •790 | City of Summerfield.
| Approximately 0.7 miles upstream of Strader Road | None | •805 |
Mile Branch Tributary 1 | At the confluence with Mile Branch | None | •721 | City of High Point.
| Approximately 0.7 mile Branch | None | •780 |
Mile Run Creek | At the confluence with South Buffalo Creek | •728 | •729 | City of Greensboro Unincorporated Areas of Guilford County.
| Approximately 150 feet downstream of Orchard Street | None | •767 |
Muddy Creek | At the confluence with North Buffalo Creek | •710 | •713 | City of Greensboro Unincorporated Areas of Guilford County.
| Approximately 850 feet upstream of North Dudley Street | None | •777 |
Muddy Creek East Tributary | At the Guilford/Randolph County Boundary | None | •814 | City of High Point.
| Approximately 1,000 feet upstream of Baker Road | None | •855 |
Muddy Creek East Tributary 2 | At the High Point ETJ/Archdale City Boundary | None | •789 | City of High Point.
| At the High Point ETJ/Archdale City Boundary | None | •799 |
Muddy Creek East, Tributary 4 | At the Guilford/Randolph County Boundary | None | •771 | City of High Point.
| Approximately 1,500 feet upstream of Liberty Road | None | •826
Muddy Creek East Tributary 5 | At the High Point ETJ/Archdale City Boundary | None | •778 | City of High Point.
| Approximately 550 feet upstream of Liberty Road | None | •814
Muddy Creek East Tributary 6 | At the High Point ETJ/Archdale City Boundary | None | •777 | City of High Point.
| Approximately 1,250 feet upstream of Liberty Road | None | •816
North Buffalo Creek (Stream No. 66) | Approximately 50 feet downstream of Rankin Mill Road | •697 | •699 | City of Greensboro, Unincorporated Areas of Guilford County.
| Approximately 90 feet upstream of South Holden Road | None | •816
North Buffalo Creek Tributary 1 | At the confluence with Jordan Branch | None | •753 | City of Greensboro.
| Approximately 700 feet upstream of Allyson Avenue | None | •779
North Buffalo Creek Tributary 2 | At the confluence with Muddy Creek | None | •719 | City of Greensboro.
| Approximately 2,050 feet upstream of Woodmore Drive | None | •750
North Buffalo Creek Tributary 3 | At the confluence with North Buffalo Creek | None | •744 | City of Greensboro.
| Approximately 0.5 mile upstream of the confluence of North Buffalo Creek | None | •754
North Buffalo Creek Tributary 4 | At the confluence with North Buffalo Creek | None | •750 | City of Greensboro.
| Approximately 200 feet upstream of South Aycock Street | None | •769
North Buffalo Creek Tributary 5 | At the confluence with North Buffalo Creek Tributary A | None | •774 | City of Greensboro.
| Approximately 75 feet upstream of Forest Hill Drive | None | •843
North Buffalo Creek Tributary 6 | At the confluence with Lake Hamilton | None | •800 | City of Greensboro.
| Approximately 100 feet upstream of Waycross Drive | None | •823
North Buffalo Creek Tributary A | At the confluence with North Buffalo Creek | •757 | •760 | City of Greensboro, Unincorporated Areas of Guilford County.
| Approximately 2,100 feet upstream of Joseph M. Bryan Boulevard | •808 | •806
North Little Alamance Creek Tributary 6 | At the confluence with North Little Alamance Creek | None | •627 | Unincorporated Areas of Guilford County.
| Approximately 1,900 feet upstream of U.S. 70 | None | •649
North Prong Stinking Quarter Creek | At the Alamance/Guilford County Boundary | None | •589 | Unincorporated Areas of Guilford County.
| Approximately 700 feet upstream of Liberty Road | None | •735
North Prong Stinking Quarter Creek Tributary | At the confluence with North Prong Stinking Quarter Creek | None | •637 | Unincorporated Areas of Guilford County.
| Approximately 250 feet upstream of Cable Church Road | None | •667
Philadelphia Lake | At the confluence with North Buffalo Creek | None | •728 | City of Greensboro.
| Approximately 1,100 feet upstream of West Cone Boulevard | None | •809
Polecat Creek Tributary 2 | At the confluence with Polecat Creek (#42) | None | •715 | Unincorporated Areas of Guilford County, Town of Pleasant Garden.
| Approximately 2 miles upstream of the confluence with Polecat Creek (#42) | None | •745
Polecat Creek Tributary 3 | At the confluence with Polecat Creek Tributary 2 | None | •718 | Unincorporated Areas of Guilford County, Town of Pleasant Garden.
| Approximately 1.7 miles upstream of the confluence with Polecat Creek Tributary 2 | None | •780
Porks Creek | At the Alamance/Guilford County Boundary | None | •644 | Unincorporated Areas of Guilford County.
| Approximately 1,000 feet upstream of the Alamance/Guilford County Boundary | None | •656
Reedy Fork Tributary 1 | Approximately 1,200 feet upstream of the confluence with Reedy Fork Creek | None | •626 | Unincorporated Areas of Guilford County.
| Approximately 1,100 feet upstream of Turner Smith Road | None | •728
Reedy Fork Tributary 10 | Approximately 0.9 mile upstream of the confluence with Reedy Fork Creek | •742 | •745 | Unincorporated Areas of the Guilford County, City of Greensboro.
| Approximately 1.4 miles upstream of the confluence with Reedy Fork Creek | None | •752
Reedy Fork Tributary 2 | Approximately 1,100 feet upstream of the confluence with Reedy Fork Creek | None | •640 | Unincorporated Areas of Guilford County.
| Approximately 350 feet upstream of Middlestream Road | None | •743
Reedy Fork Tributary 3 | At the confluence with Reedy Fork Tributary 2 | None | •686 | Unincorporated Areas of Guilford County.
| Approximately 0.9 mile upstream of Turner Smith Road | None | •715
Reedy Fork Tributary 4 | Approximately 1,000 feet upstream of the confluence with Reedy Fork | None | •620 | Unincorporated Areas of Guilford County.
| Approximately 0.6 mile upstream of Busick Quarry Road | None | •636
Reedy Fork Tributary 7 | At the upstream side of Brookbank Road | None | •779 | City of Summerfield.
| Approximately 1.1 miles upstream of Brookbank Road | None | •795
Reedy Fork Tributary 8 | Approximately 800 feet upstream of the confluence with Reedy Fork Creek | None | •633 | Unincorporated Areas of Guilford County.
| Approximately 0.9 mile upstream of the confluence with Reedy Fork Creek | None | •651
Reedy Fork Tributary 9 | At the upstream side of Reedy Fork Parkway | •685 | •688 | Unincorporated Areas of Guilford County, City of Greensboro.
| Approximately 0.5 mile upstream of U.S. Route 29 | None | •702
Richland Creek | Approximately 0.5 mile upstream of Church Street | •720 | •721 | City of Greensboro, Unincorporated Areas of Guilford County.
| Approximately 900 feet upstream of Guilford Courthouse National Park LP | None | •805
Richland Creek (#30) | At the confluence with Stream No. 31 | None | •837 | City of High Point.
| Approximately 1,350 feet upstream of West Green Drive | None | •877
Richland Creek Tributary 1 | At the confluence with Richland Creek | None | •750 | City of Greensboro.
| Approximately 1,500 feet upstream of Pheasant Run Drive | None | •810
Richland Creek Tributary 10 | At the confluence with Richland Creek (#30) | None | •785 | City of High Point.
| Approximately 400 feet upstream of East Springfield Road | None | •828
Richland Creek Tributary 11 | At the confluence with Richland Creek Tributary 10 | None | •805 | City of High Point.
| Approximately 650 feet upstream of Model Farm Road | None | •837
Richland Creek Tributary 12 | At the confluence with Richland Creek (#30) | None | •792 | City of High Point.
| Approximately 100 feet upstream of Tate Street | None | •863
Richland Creek Tributary 14 | At the confluence with Richland Creek (#30) | None | •809 | City of High Point.
| Approximately 400 feet upstream of Fraley Road | None | •863
Richland Creek Tributary 15 | At the confluence with Richland Creek (#30) | None | •827 | City of High Point.
| Approximately 100 feet upstream of South Elm Street | None | •857
Richland Creek Tributary 17 | At the confluence with Richland Creek (#30) | None | •849 | City of High Point.
| Approximately 550 feet upstream of Lincoln Drive | None | •869
Richland Creek Tributary 2 | At the confluence with Richland Creek (#30) | •714 | •713 | City of High Point.
| Approximately 0.6 mile upstream of the confluence with Richland Creek (#30) | None | •809
Richland Creek Tributary 3 | Approximately 625 feet upstream of the confluence with Richland Creek | None | •724 | City of High Point.
| Approximately 75 feet upstream of Lawndale Avenue | None | •828
Richland Creek Tributary 4 | At the confluence with Richland Creek Tributary 3 | None | •753 | City of High Point.
| Approximately 1,500 feet upstream of Central Avenue | None | •829
Richland Creek Tributary 5 | At the confluence with Richland Creek Tributary 3 | None | •747 | City of High Point, Unincorporated Areas of Guilford County.
| Approximately 1,700 feet upstream of I-85 | None | •803
Richland Creek Tributary 6 | At the confluence with Richland Creek (#30) | None | •752 | City of High Point.
| Approximately 1,700 feet upstream of I-85 | None | •783
Richland Creek Tributary 9 | At the confluence with Richland Creek (#30) | None | •778 | City of High Point.
| Approximately 2,100 feet upstream of the confluence with Richland Creek (#30) | None | •807
Rock Creek Tributary | Approximately 80 feet upstream of Sedalia Road | None | •640 | Unincorporated Areas of Guilford County, Town of Sedalia.
| Approximately 1,900 feet upstream of Sedalia Road | None | •648
Rock Creek Tributary 3 | At the confluence with Rock Creek (Stream No. 80) | None | •632 | Unincorporated Areas of Guilford County.
| Approximately 1.1 miles upstream of the confluence with Rock Creek (Stream No. 80) | None | •652
Rose Creek | At the Guilford/Rockingham County Boundary | None | •679 | Unincorporated Areas of Guilford County.
| Approximately 1,056 feet upstream of Chrismon Road | None | •694
Ryan Creek | At the confluence with South Buffalo Creek (Stream of No. 67) | •733 | •735 | City of Greensboro, Unincorporated Areas of Guilford County.
| Approximately 350 feet upstream of U.S. Route 220 | None | •799
Smith Branch | Approximately 1,800 feet upstream of the confluence with Reedy Fork Creek | None | •676 | Unincorporated Areas of Guilford County.
| Approximately 1.5 miles upstream of Turner Smith Road | None | •750
South Buffalo Creek (Stream No. 67) | Approximately 100 feet downstream of East Lee Street | •712 | •714 | City of Greensboro, Unincorporated Areas of Guilford County.
| Approximately 1,100 feet upstream of Guilford College Road | None | •876
South Buffalo Creek Tributary 1 | At the confluence with South Buffalo Creek | None | •814 | City of Greensboro.
| Approximately 300 feet upstream of Pennoak Road | None | •837
South Buffalo Creek Tributary 10 | At the confluence with Ryan Creek | None | •735 | City of Greensboro.
| Approximately 50 feet downstream of Webster Road | None | •807
South Buffalo Creek Tributary 11 | At the confluence with Ryan Creek | None | •746 | City of Greensboro.
| Approximately 750 feet upstream of Pinecraft Road | None | •807
South Buffalo Creek Tributary 2 | At the confluence with South Buffalo Creek | None | •792 | City of Greensboro.
| Approximately 1,050 feet upstream of Bernav Avenue | None | •855
South Buffalo Creek Tributary 3 | At the confluence with South Buffalo Creek | None | •745 | City of Greensboro.
| Approximately 1,500 feet upstream of Oak Street | None | •834
South Buffalo Creek Tributary 4 | At the confluence with South Buffalo Creek | None | •713 | City of Greensboro, Unincorporated Areas of Guilford County.
| Approximately 1,250 feet upstream of South English Street | None | •769
South Buffalo Creek Tributary 5 | At the confluence with South Buffalo Creek | None | •719 | City of Greensboro.
| Approximately 1,100 feet upstream of South English Street | None | •772
South Buffalo Creek Tributary 6 | At the confluence with South Buffalo Creek | None | •720 | City of Greensboro, Unincorporated Areas of Guilford County.
| Approximately 350 feet upstream of Barksdale Drive | None | •737
South Buffalo Creek Tributary 7 | At the confluence with South Buffalo Creek | None | •726 | City of Greensboro.
| Approximately 900 feet upstream of Tuscaloosa Street | None | •757
South Buffalo Creek Tributary 8 | At the confluence with South Buffalo Creek | None | •727 | City of Greensboro.
| Approximately 800 feet upstream of South Benbow Road | None | •739
South Buffalo Creek Tributary B | At the confluence with South Buffalo Creek Tributary A | •811 | •816 | City of Greensboro.
| Approximately 550 feet upstream of Richland Street | None | •886
South Prong Stinking Quarter Creek | At the confluence with Stinking Quarter Creek | None | •575 | Unincorporated Areas of Guilford County.
| At the Guilford/Randolph County Boundary | None | •625
South Prong Stinking Quarter Creek Tributary 1 | At the confluence with South Prong Stinking Quarter Creek | None | •575 | Unincorporated Areas of Guilford County.
| Approximately 1.1 miles upstream of Smithwood Road | None | •676
Stinking Quarter Creek | At the Alamance/Guilford County Boundary | None | •556 | Unincorporated Areas of Guilford County.
| At the confluence with South Prong Stinking Quarter Creek Tributary 1 and South Prong Stinking Quarter Creek | None | •575
Stinking Quarter Creek Tributary 2 | At the confluence with Stinking Quarter Creek | None | •559 | Unincorporated Areas of Guilford County.
| Approximately 0.7 mile upstream of the confluence with Stinking Quarter Creek | None | •577
Stream No. 13 | Approximately 800 feet upstream of East Hartley Drive | None | •817 | City of High Point.
| Approximately 0.6 mile upstream of SR 68 | None | •881
Stream No. 13 Tributary 1 | At the confluence with Stream No. 13 | None | •807 | City of High Point.
| Approximately 2,250 feet upstream of the confluence with Stream No. 13 | None | •854
Stream No. 13 Tributary 2 | At the confluence with Stream No. 13 | None | •807 | City of High Point.
| Approximately 1,700 feet upstream of the confluence with Stream No. 13 | None | •825
Stream No. 13 Tributary 3 | At the confluence with Stream No. 13 | None | •813 | City of High Point.
| Approximately 400 feet upstream of Pine Valley Road | None | •856
Stream No. 13 Tributary 4 | At the confluence with Stream No. 13 | None | •818 | City of High Point.
| Approximately 1,650 feet upstream of SR 68 | None | •893
Stream No. 13 Tributary 5 | At the confluence with Stream No. 13 | None | •818 | City of High Point.
| Approximately 1,150 feet upstream of SR 68 | None | •866
Stream No. 18 | At the confluence with West Fork Deep River | •776 | •775 | City of High Point, Unincorporated Areas of Guilford County.
| Approximately 1,350 feet upstream of Hickswood Road | •820 | •819
Stream No. 27 | Approximately 50 feet upstream of Rosecrest Drive | None | •812 | City of High Point.
| Approximately 1,850 feet upstream of Enterprise Drive | None | •852
Stream No. 27 Tributary 2 | At the confluence with Stream No. 27 | None | •787 | City of High Point.
| Approximately 1,700 feet upstream of Alpine Drive | None | •833
Stream No. 31 | Approximately 80 feet upstream of Vail Avenue | None | •854 | City of High Point.
| Approximately 300 feet upstream of Taylor Avenue | None | •869
Stream No. 33 | Approximately 150 feet upstream of Wise Avenue | None | •813 | City of High Point.
| Approximately 500 feet upstream of West Russell Avenue | None | •850
Stream No. 33 Tributary 2 | At the confluence with Stream No. 33 | None | •813 | City of High Point.
| Approximately 400 feet upstream of East Green Drive | None | •841
Stream No. 34 | Approximately 450 feet downstream of Habersham Road | None | •819 | City of High Point.
| Approximately 1,850 feet downstream of Pendleton Street | None | •851
Stream No. 34 Tributary | At the confluence with Stream No. 34 | None | •752 | City of High Point.
| Approximately 1,700 feet upstream of Triangle Lake Road | None | •828
Stream No. 34A | Approximately 50 feet downstream of Jackson Lake Road | None | •742 | City of High Point.
| Approximately 200 feet upstream of Baker Road | None | •827
Stream No. 34A Tributary 1 | At the confluence with Stream No. 34A | None | •753 | City of High Point.
| Approximately 1,650 feet upstream of the confluence with Stream No. 34A | None | •781
Stream No. 34A Tributary 2 | At the confluence with Stream No. 34A | None | •753 | City of High Point.
| Approximately 1,650 feet upstream of the confluence with Stream No. 34A | None | •792
Stream No. 34A Tributary 3 | At the confluence with Stream No. 34A | None | •769 | City of High Point.
| Approximately 0.5 mile upstream of the confluence with Stream No. 34A | None | •820
Stream No. 34A Tributary 4 | At the confluence with Stream No. 34A Tributary 3 | None | •775 | City of High Point.
| Approximately 1,700 feet upstream of the confluence with Stream No. 34A Tributary 3 | None | •824
Stream No. 34A Tributary 6 | At the confluence with Stream No. 34A | None | •795 | City of High Point.
| Approximately 450 feet upstream of North Hall Street | None | •818
Stream No. 34A Tributary 7 | At the confluence with Stream No. 34A | None | •819 | City of High Point.
| Approximately 1,350 feet upstream of Baker Road | None | •864
Tickle Creek | At the Alamance/Guilford County Boundary | None | •647 | Unincorporated Areas of Guilford County.
| Approximately 1 mile upstream of the Alamance/Guilford County Boundary | None | •659
Travis Creek | At the Alamance/Guilford County Boundary | None | •618 | Unincorporated Areas of Guilford County.
| Approximately 950 feet upstream of SR 61/Frieden Church Road | None | •670
Tributary A to Travis Creek | At the Alamance/Guilford County Boundary | None | •624 | Unincorporated Areas of Guilford County.
| Approximately 600 feet upstream of Howerton Road | None | •674
Tributary to Travis Creek | At the Alamance/Guilford County Boundary | None | •632 | Unincorporated Areas of Guilford County.
| Approximately 0.6 mile upstream from the Alamance/Guilford County Boundary | None | •660
Tributary to West Fork Deep River | Approximately 1,550 feet upstream of the confluence with West Fork Deep River (#2) | None | •816 | Unincorporated Areas of Guilford County, City of High Point.
| Approximately 0.6 mile upstream of the confluence with West Fork Deep River (#2) | None | •831
Twin Lakes Tributary | At the confluence with South Buffalo Creek | •750 | •753 | City of Greensboro.
| Approximately 100 feet downstream of Merryweather Road | None | •827
Twin Lakes Tributary 1 | At the confluence with Twin Lakes Tributary | None | •797 | City of Greensboro.
| Approximately 100 feet downstream of Merritt Drive | None | •828
Unnamed Tributary to Deep River | At the Guilford/Randolph County Boundary | None | •701 | Unincorporated Areas of Guilford County.
| Approximately 0.8 mile upstream of the Guilford/Randolph County Boundary | None | •722
Unnamed Tributary to Polecat Creek | At the Guilford/Randolph County Boundary | None | •695 | Unincorporated Areas of Guilford County.
| Approximately 1,400 feet upstream of SR 62 | None | •712
Unnamed Tributary to West Fork Deep River | At the confluence with West Fork Deep River Tributary 1 | None | •831 | Unincorporated Areas of Guilford County.
| Approximately 200 feet upstream of Adkins Road | None | •855
West Fork Deep River (#2) | At the confluence with West Fork Deep RiverTributary 1 | •833 | •831 | Unincorporated Areas of Guilford County.
| At the Guilford/Forsyth County Boundary | None | •862
City of Greensboro
Maps are available for inspection at Greensboro Stormwater Management Division, 2602 South Elm Eugine Street, Greensboro, NC.
Send comments to The Honorable Keith Holliday, Mayor, City of Greensboro, P.O. Box 3136, Greensboro, NC 27402-3136.
City of High Point
Maps are available for inspection at High Point City Hall, 211 South Hamilton Street, High Point, NC.
Send comments to The Honorable Rebecca Smothers, Mayor, City of High Point, P.O. Box 230, High Point, NC 27261.
City of Summerfield
Maps are available for inspection at Summerfield Town Planning Office, 4117 Oak Ridge Road (Highway 150), Summerfield, NC.
Send comments to The Honorable Dena Barnes, Mayor, Town of Summerfield, P.O. Box 970, Summerfield, NC 27358.
Town of Jamestown
Maps are available for inspection at Jamestown Town Hall, 301 East Main Street, Jamestown, NC.
Send comments to The Honorable William G. Ragsdale, Mayor, Town of Jamestown, P.O. Box 848, Jamestown, NC 27282.
Town of Pleasant Garden
Maps are available for inspection at Pleasant Garden Municipal Building, 4920 Alliance Church Road, Pleasant Garden, NC.
Send comments to The Honorable Eddy Patterson, Mayor, Town of Pleasant Garden, P.O. Box 307, Pleasant Garden, NC 27313.
Town of Sedalia
Maps are available for inspection at the Sedalia Town Hall, 6121 Burlington Road, Sedalia, North Carolina.
Send comments to The Honorable Jeanne Rudd, Mayor, Town of Sedalia, P.O. Box C, Sedalia, North Carolina 27342
Unincorporated Areas of Guilford County
Maps are available for inspection at Guilford County Planning and Development Office, 201 South Eugene Street, Greensboro, NC.
Send comments to Mr. Willie Best, Guilford County Manager, P.O. Box 3427, Greensboro, NC 27402.
NORTH CAROLINA | Lee County
Beaver Creek | At the Lee/Moore County boundary | None | •307 | Unincorporated Areas of Lee County.
| At the Lee/Harnett County boundary | None | •310
Big Branch | At the Lee/Moore County boundary | None | •297 | Unincorporated Areas of Lee County.
| Approximately 0.7 mile upstream of the Lee/Moore County boundary | None | •304
Big Buffalo Creek | At the confluence with Deep River | None | •228 | Unincorporated Areas of Lee County, City of Sanford.
| Approximately 0.3 mile upstream of U.S. Route 1 | •290 | •289
Big Buffalo Creek Tributary 1 | At the confluence with Big Buffalo Creek | None | •253 | City of Sanford.
| Approximately 0.5 mile upstream of Valley Road | None | •297
Big Governors Creek | At the confluence with Deep River | None | •258 | Unincorporated Areas of Lee County.
| At the confluence of Little Governors Creek | None | •258
Bush Creek | At the confluence with Cape Fear River | None | •169 | Unincorporated Areas of Lee County.
| Approximately 3.7 miles upstream of the confluence with Cape Fear River | None | •234
Bush Creek Tributary | At the confluence with Bush Creek | None | •170 | Unincorporated Areas of Lee County.
| Approximately 1,000 feet upstream of Poplar Springs Church Road | None | •239
Cape Fear River | At the Lee/Harnett County boundary | None | •152 | Unincorporated Areas of Lee County.
| At the confluence of Deep River | None | •177
Cape Fear River Tributary 1 | At the confluence with Cape Fear River | None | •172 | Unincorporated Areas of Lee County.
| Approximately 1.2 miles upstream of Poplar Springs Church Road | None | •256
Carrs Creek | At the confluence with Upper Little River | None | •259 | Unincorporated Areas of Lee County.
| Approximately 0.7 mile upstream of the confluence with Upper Little River | None | •264
Copper Mine Creek | At the confluence with Hughes Creek and Gum Fork Creek | None | •199 | Unincorporated Areas of Lee County.
| Approximately 0.6 mile upstream of Farrell Road | None | •230
Deep River | At the confluence with Cape Fear River | None | •177 | Unincorporated Areas of Lee County.
| At the confluence of Big Governors Creek | None | •257
Deep River Tributary 1 | At the confluence with Deep River | None | •227 | Unincorporated Areas of Lee County.
| Approximately 1.4 miles upstream of the confluence with Deep River Tributary 3 | None | •237
Deep River Tributary 10 | At the confluence with Deep River | None | •255 | Unincorporated Areas of Lee County.
| Approximately 1.3 miles upstream of the confluence with Deep River | None | •261
Deep River Tributary 11 | At the confluence with Deep River | None | •256 | Unincorporated Areas of Lee County.
| Approximately 1.0 mile upstream of the confluence of Tributary to Deep River Tributary 11 | None | •282 |
Deep River Tributary 2 | At the confluence with Deep River Tributary 1 | None | •227 | Unincorporated Areas of Lee County.
| Approximately 0.8 mile upstream of the confluence with Deep River Tributary 1 | None | •235 |
Deep River Tributary 3 | At the confluence with Deep River Tributary 1 | None | •227 | Unincorporated Areas of Lee County.
| Approximately 1.0 mile upstream of the confluence with Deep River Tributary 1 | None | •247 |
Deep River Tributary 9 | At the confluence with Deep River | None | •252 | Unincorporated Areas of Lee County.
| Approximately 0.9 mile upstream of the confluence with Deep River | None | •256 |
Dry Fork | At the confluence with Pocket Creek | None | •299 | Unincorporated Areas of Lee County.
| Approximately 2.4 miles upstream of Dycus Road | None | •476 |
Fall Creek | At the confluence with Cape Fear River | None | •156 | Unincorporated Areas of Lee County.
| Approximately 0.4 mile upstream of Copeland Road | None | •329 |
Gasters Creek West | At the confluence with Upper Little River | None | •312 | Unincorporated Areas of Lee County.
| Approximately 0.4 mile upstream of Minter School Road | None | •401 |
Gasters Creek West Tributary 1 | At the confluence with Gasters Creek West | None | •337 | Unincorporated Areas of Lee County.
| Approximately 520 feet upstream of Lemon Springs Road | None | •372 |
Gum Fork Creek | At the confluence with Copper Mine Creek and Hughes Creek | None | •199 | Unincorporated Areas of Lee County.
| Approximately 1.3 miles upstream of US-1 | None | •269 |
Hughes Creek | At the confluence with Lick Creek | None | •173 | Unincorporated Areas of Lee County.
| At the confluence of Copper Mine Creek and Gum Fork Creek | None | •199 |
Hughes Creek Tributary 1 | At the confluence with Hughes Creek | None | •173 | Unincorporated Areas of Lee County.
| Approximately 0.5 mile upstream of Cletus Hall Road | None | •194 |
Juniper Creek | At the confluence with Upper Little River | None | •266 | Unincorporated Areas of Lee County.
| Approximately 1.0 mile upstream of Nicholson Road | None | •363 |
Kendale Creek | Approximately 1,400 feet upstream of Hiawatha Trail | None | •352 | City of Sanford.
| Approximately 2,000 feet upstream of Hiawatha Trail | None | •353 |
Lick Creek | At the confluence with Cape Fear River | None | •173 | Unincorporated Areas of Lee County, City of Sanford.
| Approximately 1.0 mile upstream of Pumping Station Road | None | •373 |
Lick Creek Tributary 2 | At the confluence with Lick Creek | None | •239 | Unincorporated Areas of Lee County.
| Approximately 1.6 miles upstream of the confluence with Lick Creek | None | •325 |
Lick Creek Tributary 3 | At the confluence with Lick Creek | None | •296 | Unincorporated Areas of Lee County.
| Approximately 0.9 mile upstream of the confluence with Lick Creek | None | •338 |
Little Buffalo Creek | At the confluence with Deep River | None | •222 | Unincorporated Areas of Lee County, City of Sanford.
| Approximately 1,000 feet upstream of Highway 421/Highway 87 | None | •406 |
Little Crane Creek Tributary 2 | Approximately 1,300 feet upstream of the confluence with Little Crane Creek | None | •332 | Unincorporated Areas of Lee County.
| Approximately 1.3 miles upstream of the confluence with Little Crane Creek | None | •384 |
Little Crane Creek Tributary 3 | Approximately 700 feet upstream of the confluence with Little Crane Creek | None | •347 | Unincorporated Areas of Lee County.
| Approximately 0.4 mile upstream of the confluence with Little Crane Creek | None | •370 |
Little Crane Creek Tributary 4A | At the confluence with Little Crane Creek Tributary 4 | None | •363 | Unincorporated Areas of Lee County.
| Approximately 1,500 feet upstream of Eakes Road | None | •425 |
Little Crane Creek Tributary 4B | At the confluence with Little Crane Creek Tributary 4 | None | •370 | Unincorporated Areas of Lee County.
| Approximately 750 feet upstream of White Meadows Drive | None | •411 |
Little Crane Tributary 4 | Approximately 600 feet upstream of the confluence with Little Crane Creek | None | •349 | Unincorporated Areas of Lee County.
| Approximately 1.4 miles upstream of the confluence with Little Crane Creek Tributary 4B | None | •428 |
Little Governors Creek | At the confluence with Big Governors Creek | None | •257 | Unincorporated Areas of Lee County.
| Approximately 8.3 miles upstream of the confluence with Big Governors Creek | None | •360 |
Little Juniper Creek | At the confluence with Upper Little River and Mulatto Branch | None | •332 | Unincorporated Areas of Lee County.
| Approximately 1.2 miles upstream of Rocky Fork Church Road | None | •403 |
Little Juniper Creek Tributary 1 | At the confluence with Little Juniper Creek | None | •347 | Unincorporated Areas of Lee County.
| Approximately 0.6 mile upstream of the confluence with Little Juniper Creek | None | •369 |
Little Juniper Creek Tributary 2 | At the confluence with Little Juniper Creek | None | •357 | Unincorporated Areas of Lee County.
| Approximately 600 feet upstream of Lemon Springs Road | None | •408 |
Little Juniper Creek Tributary 3 | At the confluence with Little Juniper Creek | None | •360 | Unincorporated Areas of Lee County.
| Approximately 1.2 miles upstream of Willett Road | None | •457 |
Little Juniper Creek Tributary 4 | At the confluence with Little Juniper Creek | None | •366 | Unincorporated Areas of Lee County.
| Approximately 0.3 mile upstream of the confluence with Little Juniper Creek | None | •376 |
Little Lick Creek | At the confluence with Lick Creek | None | •193 | Unincorporated Areas of Lee County.
| Approximately 1.2 miles upstream of Kids Lane | None | •365 |
Little Lick Creek Tributary 1 | At the confluence with Little Lick Creek | None | •206 | Unincorporated Areas of Lee County.
| Just downstream of Womack Lake Circle | None | •351 |
Little Lick Creek Tributary 1A | At the confluence with Little Lick Creek Tributary 1 | None | •226 | Unincorporated Areas of Lee County.
| Approximately 1.7 miles upstream of the confluence with Little Lick Creek Tributary 1 | None | •365 |
Little Lick Creek Tributary 1B | At the confluence with Little Lick Creek Tributary 1 | None | •247 | Unincorporated Areas of Lee County.
| Approximately 1,000 feet upstream of NC 42 (Avents Ferry Road) | None | •390 |
Little Pocket Creek | At the confluence with Pocket Creek | None | •238 | Unincorporated Areas of Lee County.
| Approximately 1.2 miles upstream of McPherson Road | None | •383 |
Little Shaddox Creek | At the confluence with Cape Fear River | None | •175 | Unincorporated Areas of Lee County.
| Approximately 450 feet upstream of Lower Moncure Road | None | •196
Long Branch | At the confluence with Juniper Creek | None | •311 | Unincorporated Areas of Lee County.
| Approximately 0.9 mile upstream of John Godfrey Road | None | •341
Lonnie Wombles Creek | At the confluence with Cape Fear River | None | •175 | Unincorporated Areas of Lee County.
| Approximately 0.6 mile upstream of US-1 | None | •329
Lonnie Wombles Creek Tributary 1 | At the confluence with Lonnie Wombles Creek | None | •182 | Unincorporated Areas of Lee County.
| Approximately 0.9 mile upstream of US-1 | None | •324
Lonnie Wombles Creek Tributary 2 | At the confluence with Lonnie Wombles Creek Tributary 1 | None | •206 | Unincorporated Areas of Lee County.
| Approximately 770 feet upstream of US-1 | None | •266
Mare Branch | At the confluence with Juniper Creek | None | •306 | Unincorporated Areas of Lee County.
| Approximately 0.6 mile upstream of Landfill Road | None | •380
Mulatto Branch | At the confluence with Upper Little River and Little Juniper Creek | None | •332 | Unincorporated Areas of Lee County.
| Approximately 830 feet upstream of Minter School Road | None | •368
Patchet Creek | At the confluence with Upper Little River | None | •245 | Unincorporated Areas of Lee County.
| Approximately 630 feet upstream of John Rosser Road | None | •325
Patterson Creek | At the confluence with Deep River | None | •236 | Unincorporated Areas of Lee County.
| Approximately 1,600 feet upstream of Wicker Street | None | •391
Persimmon Creek | At the confluence with Big Buffalo Creek | •290 | •289 | Unincorporated Areas of Lee County, City of Sanford.
| Approximately 1.2 miles upstream of Carthage Street | None | •411
Pocket Creek | At the confluence with Deep River | None | •238 | Unincorporated Areas of Lee County.
| Approximately 250 feet upstream of Chris Cole Road | None | •342
Purgatory Branch | At the confluence with Big Buffalo Creek | None | •235 | Unincorporated Areas of Lee County.
| Approximately 1.6 miles upstream of Forestwood Park Road | None | •305
Racoon Creek | At the confluence with Pocket Creek | None | •271 | Unincorporated Areas of Lee County, City of Sanford.
| Approximately 1.7 miles upstream of South Franklin Drive | None | •476
Racoon Creek Tributary 1 | At the confluence with Racoon Creek | None | •295 | Unincorporated Areas of Lee County.
| Approximately 0.9 mile upstream of the confluence with Racoon Creek | None | •361
Racoon Creek Tributary 2 | At the confluence with Racoon Creek | None | •317 | Unincorporated Areas of Lee County.
| Approximately 1,700 feet upstream of the confluence with Racoon Creek | None | •338
Reedy Branch | At the confluence with Juniper Creek | None | •321 | Unincorporated Areas of Lee County.
| Approximately 1,700 feet upstream of Blacks Chapel Road | None | •378
Roberts Creek | At the confluence with Hughes Creek | None | •175 | Unincorporated Areas of Lee County.
| Approximately 0.4 miles upstream of Railroad | None | •271
Run Branch | At the confluence with Reedy Branch | None | •324 | Unincorporated Areas of Lee County.
| Approximately 1.4 miles upstream of the confluence with Reedy Branch | None | •400
Skunk Creek | Approximately 10 feet upstream of West Garden Street | None | •320 | City of Sanford.
| Approximately 0.5 mile upstream of West Garden Street | None | •343
Smith Creek | At the confluence with Deep River | None | •244 | Unincorporated Areas of Lee County.
| Approximately 1.1 miles upstream of Carbonton Road | None | •269
Stony Creek | At the confluence with Lick Creek | None | •191 | Unincorporated Areas of Lee County.
| Approximately 2.1 miles upstream of Poplar Springs Church Road | None | •358
Sugar Creek | At the confluence with Pocket Creek | None | •308 | Unincorporated Areas of Lee County.
| Approximately 1.2 miles upstream of the confluence with Pocket Creek | None | •337
Tributary to Deep River Tributary 11 | At the confluence with Deep River Tributary 11 | None | •256 | Unincorporated Areas of Lee County.
| Approximately 2.1 miles upstream of the confluence with Deep River Tributary 11 | None | •275
Upper Little River | At the Lee/Harnett County boundary | None | •240 | Unincorporated Areas of Lee County.
| At the confluence of Mulatto Branch and Little Juniper Creek | None | •332
Upper Little River Tributary 1 | At the confluence with Upper Little River | None | •290 | Unincorporated Areas of Lee County.
| Approximately 0.3 mile upstream of Holder Road | None | •355
Upper Little River Tributary 1 | At the confluence with Upper Little River | None | •290 | Unincorporated Areas of Lee County.
| Approximately 0.3 mile upstream of Holder Road | None | •355
Wallace Branch | At the confluence with Lick Creek | None | •217 | Unincorporated Areas of Lee County.
| Approximately 1.3 miles upstream of F.L. Dowdy Lane | None | •268
Wallace Branch Tributary 1 | At the confluence with Wallace Branch | None | •218 | Unincorporated Areas of Lee County.
| Approximately 0.8 mile upstream of Riddle Road | None | •279
Wallace Branch Tributary 2 | At the confluence with Wallace Branch | None | •220 | Unincorporated Areas of Lee County.
| Approximately 0.6 mile upstream of Riddle Road | None | •246
Wallace Branch Tributary 3 | At the confluence with Wallace Branch | None | •222 | Unincorporated Areas of Lee County.
| Approximately 1.6 miles upstream of Riddle Road | None | •317
Whitehorse Branch | At the confluence with Mulatto Branch | None | •358 | Unincorporated Areas of Lee County.
| Approximately 0.2 mile upstream of Hickory House Road | None | •382
City of Sanford
Maps are available for inspection at the City of Sanford Planning Department, 900 Woodland Avenue, Sanford, North Carolina.
Send comments to The Honorable Winston Hester, Mayor of the City of Sanford, P.O. Box 3729, Sanford, North Carolina 27331-3729.
Unincorporated Areas of Lee County
Maps are available for inspection at the Lee County Planning Department, 900 Woodland Avenue, Sanford, North Carolina.
Send comments to Mr. David Smitherman, Lee County Manager, P.O. Box 1968, Sanford, North Carolina 27331.
NORTH CAROLINA
Sampson County
Bearskin Swamp | At the confluence with Little Coharie Creek | None | •87 | Unincorporated Areas of Sampson County.
| Approximately 1.3 miles upstream of Bearskin Road | None | •153
Beaverdam Creek | At the confluence with Clear Run | None | •57 | Unincorporated Areas of Sampson County.
| Approximately 2.4 miles upstream of the confluence with Clear Run | None | •97
Beaverdam Run | At the confluence with Great Coharie Creek | None | •99 | Unincorporated Areas of Sampson County.
| Approximately 0.6 mile upstream of High House Road | None | •168
Beaverdam Swamp | At the confluence with Mongo Swamp | None | •127 | Unincorporated Areas of Sampson County.
| Approximately 1.3 miles upstream of U.S. Highway 421 | None | •191
Beaverdam Swamp 1 | At the confluence with Six Runs Creek | None | •93 | Unincorporated Areas of Sampson County.
| Approximately 350 feet upstream of Isaac Weeks Road | None | •137
Beaverdam Swamp 2 | At the confluence with Great Coharie Creek | None | •106 | Unincorporated Areas of Sampson County.
| Approximately 260 feet downstream of Keener Road | None | •133
Beaverdam Swamp 2 Tributary 1 | At the confluence with Beaverdam Swamp 2 | None | •119 | Unincorporated Areas of Sampson County.
| Approximately 0.4 mile upstream of Wigigns Road | None | •139
Beaverdam Swamp 3 | At the confluence with Great Coharie Creek | None | •134 | Unincorporated Areas of Sampson County, Town of Newton Grove.
| Approximately 1,000 feet upstream of the confluence of Beaverdam Swamp 3 Tributary 2 | None | •155
Beaverdam Swamp 3 Tributary 2 | At the confluence with Beaverdam Swamp 3 | None | •154 | Town of Newton Grove.
| Approximately 800 feet upstream of Old Goldsboro Road | None | •162
Beaverdam Swamp Tributary 1 | At the confluence with Beaverdam Swamp | None | •121 | Unincorporated Areas of Sampson County.
| Approximately 160 feet downstream of High House Road | None | •135
Big Branch | At the confluence with Black River | None | •42 | Unincorporated Areas of Sampson County.
| Approximately 0.7 mile upstream of Harrells Highway (NC Highway 411) | None | •84
Big Juniper Run | At the confluence with Mingo Swamp | None | •151 | Unincorporated Areas of Sampson County.
| Approximately 1,200 feet upstream of Lee's Chapel Church Road | None | •192
Big Swamp | At the confluence with South River | None | •77 | Unincorporated Areas of Sampson County.
| Approximately 1.2 miles upstream of Minnie-Hall Road | None | •128
Bills Swamp | At the confluence with Great Coharie Creek | None | •56 | Unincorporated Areas of Sampson County.
| Approximately 1.4 miles upstream of Norris Road | None | •89
Black River | At the Bladen/Pender/Sampson County boundary | None | •23 | Unincorporated Areas of Sampson County.
| Approximately 3.6 miles upstream of the confluence of Big Branch | None | •45
Black River Tributary 1 | At the confluence with Black River | None | •33 | Unincorporated Areas of Sampson County.
| Approximately 1,300 feet upstream of G. Shaw Road | None | •68
Buckhorn Creek | At the confluence with Crane Creek | None | •69 | Unincorporated Areas of Sampson County.
| Approximately 1.9 miles upstream of Boney Mill Road | None | •103
Bulltail Creek | At the Sampson/Duplin County boundary | None | •58 | Unincorporated Areas of Sampson County.
| Approximately 0.5 mile upstream of Bull Tail Road | None | •63
Caesar Swamp | At the confluence with Little Coharie Creek | None | •132 | Unincorporated Areas of Sampson County.
| Approximately 1.2 miles upstream of Straw Pond School Road | None | •180
Canty Mill Branch | At the confluence with Black River | None | •38 | Unincorporated Areas of Sampson County.
| Approximately 0.5 mile upstream of Melvin Road | None | •57
Cat Creek | At the confluence with Black River | None | •35 | Unincorporated Areas of Sampson County.
| Approximately 1,750 feet upstream of Private Road | None | •79
Cat Tail Branch | At the confluence with Williams Old Mill Branch | None | •122 | City of Clinton.
| Approximately 1,380 feet upstream of East Johnson Street | None | •138
Clear Run | At the confluence with Black River | None | •46 | Unincorporated Areas of Sampson County.
| Approximately 1.5 miles upstream of the confluence of Beaverdam Creek | None | •70
Cobb Branch | At the confluence with Canty Mill Branch | None | •40 | Unincorporated Areas of Sampson County.
| Approximately 0.8 mile upstream of confluence with Canty Mill Branch | None | •48
Craddock Swamp | At the confluence with Ward Swamp | None | •141 | Unincorporated Areas of Sampson County.
| Approximately 275 feet downstream of William R. King Road | None | •167
Crane Creek | At the confluence with Six Runs Creek | None | •57 | Unincorporated Areas of Sampson County.
| Approximately 1.9 miles upstream of West Mount Gilead Church Road | None | •106
Cypress Lake | At the confluence with Black River | None | •27 | Unincorporated Areas of Sampson County.
| Approximately 1.2 miles upstream of Ivanhoe Road | None | •65
Devane Branch | At the confluence with Black River | None | •38 | Unincorporated Areas of Sampson County.
| Approximately 0.8 mile upstream of Tomahawk Highway (NC Highway 41) | None | •80
Doctors Creek | At the Sampson/Duplin County boundary | None | •87 | Unincorporated Areas of Sampson County.
| Approximately 250 feet upstream of the Sampson/Duplin County boundary | None | •88
Dollar Branch | Approximately 800 feet upstream of the confluence with Williams Old Mill Branch | None | •105 | Unincorporated Areas of Sampson County, City of Clinton.
| Approximately 1,060 feet upstream of W. Morisey Boulevard | None | •140
Encon Mill Creek | At the confluence with South River | None | •31 | Unincorporated Areas of Sampson County.
| Approximately 1.4 miles upstream of Dam | None | •67
Gilmore Swamp | At the confluence with Six Runs Creek | None | •100 | Unincorporated Areas of Sampson County.
| Approximately 0.5 mile upstream of King Road | None | •142 |
Gilmore Swamp Tributary | At the confluence with Gilmore Swamp | None | •116 | Unincorporated Areas of Sampson County.
| Approximately 1.6 miles upstream of King Road | None | •136
Goshen Swamp | At the Sampson/Duplin County boundary | None | •117 | Unincorporated Areas of Sampson County.
| Approximately 228 feet upstream of Preacher Henrys Road | None | •167 |
Great Coharie Creek | Approximately 0.8 mile upstream of the confluence with Black River and Six Runs Creek | None | •52 | Unincorporated Areas of Sampson County.
| Approximately 1 mile upstream of Oak Grove Church Road | None | •182 |
Great Coharie Creek Tributary 1 | At the confluence with Great Coharie Creek | None | •67 | Unincorporated Areas of Sampson County.
| Approximately 1.2 miles upstream of the confluence with Great Coharie Creek | None | •103 |
Great Coharie Creek Tributary 2 | At the confluence with Great Coharie Creek | None | •67 | Unincorporated Areas of Sampson County.
| Approximately 1.3 miles upstream of the confluence with Great Coharie Creek | None | •101 |
Great Coharie Creek Tributary 3 | At the confluence with Great Coharie Creek | None | •113 | Unincorporated Areas of Sampson County.
| Approximately 1.2 miles upstream of Keener Road | None | •148 |
Hornet Swamp | At the confluence with Little Cohane Creek | None | •133 | Unincorporated Areas of Sampson County.
| Approximately 0.8 mile upstream of North Salemburg Highway | None | •170
Johnson Mill Branch | At the confluence with Little Coharie Creek | None | •68 | Unincorporated Areas of Sampson County.
| Approximately 1,240 feet upstream of Greens Bridge Road | None | •109 |
Jones Swamp | At the confluence with South River | None | •110 | Unincorporated Areas of Sampson County.
| Approximately 810 feet upstream of Welcome School Road | None | •138 |
Keith Branch | At the confluence with Black River | None | •34 | Unincorporated Areas of Sampson County.
| Approximately 1,430 feet upstream of Firetower Road | None | •48 |
Kill Swamp Tributary 1 | At the confluence with Kill Swamp | None | •165 | Unincorporated Areas of Sampson County.
| Approximately 0.5 mile upstream of the confluence with Kill Swamp | None | •169 |
Kings Branch | At the confluence with Six Runs Creek | None | •121 | Unincorporated Areas of Sampson County.
| Approximately 2.1 miles upstream of the confluence with Six Runs Creek | None | •137
Little Beaverdam Swamp | At the confluence with South River | None | •120 | Unincorporated Areas Sampson County.
| Approximately 1 mile upstream of Phillips Road | None | •155 |
Little Beaverdam Swamp Tributary 1 | At the confluence with Little Beaverdam Swamp | None | •123 | Unincorporated Areas of Sampson County.
| Approximately 1.3 miles upstream of the confluence with Little Beaverdam Swamp Tributary 2 | None | •138 |
Little Beaverdam Swamp Tributary 2 | At the confluence with Little Beaverdam Swamp Tributary 1 | None | •123 | Unincorporated Areas of Sampson County.
| Approximately 0.7 mile upstream of Charles Newland Road | None | •145 |
Little Coharie Creek | At the confluence with Great Coharie Creek | None | •58 | Unincorporated Areas of Sampson County.
| Approximately 1.1 miles upstream of Newton Grove Highway (U.S. Highway 13) | None | •192 |
Little Coharie Creek Tributary | At the confluence with Little Coharie Creek | None | •87 | Unincorporated Areas of Sampson County.
| Approximately 0.3 mile upstream of Andrews Chapel Road | None | •117 |
Little Juniper Run | At the confluence with Big Juniper Run | None | •172 | Unincorporated Areas of Sampson County.
| Approximately 0.6 mile upstream of Draughon Road | None | •214 |
Lockamy Mill | At the confluence with Little Coharie Creek | None | •73 | Unincorporated Areas of Sampson County.
| Approximately 0.9 mile upstream of Highway 411 | None | •103 |
Marsh Swamp | At the confluence with Great Coharie Creek | None | •112 | Unincorporated Areas of Sampson County.
| Approximately 1,020 feet upstream of Odom Road | None | •143 |
McPhail Branch | At the confluence with Merkle Swamp | None | •131 | Unincorporated Areas of Sampson County.
| Approximately 1.1 miles upstream of the confluence with Merkle Swamp | None | •160
Meetinghouse Branch | At the confluence with Great Coharie Creek | None | •103 | Unincorporated Areas of Sampson County.
| Approximately 0.6 mile upstream of Basstown Road | None | •128
Merkle Swamp | At the confluence with Great Coharie Creek | None | •116 | Unincorporated Areas of Sampson County.
| Approximately 0.7 mile upstream of Joel Jones Lane | None | •155 |
Mill Creek | At the Pender/Duplin County boundary | None | •51 | Unincorporated Areas of Sampson County.
| Approximately 800 feet upstream of Matthews Road | None | •66 |
Mill Creek 2 | At the confluence with Great Coharie Creek | None | •63 | Unincorporated Areas of Sampson County.
| Approximately 1.4 miles upstream of Garland Highway (Highway 701) | None | •110 |
Mill Creek Tributary | At the confluence with Mill Creek | None | •61 | Unincorporated Areas of Sampson County.
| At the Sampson/Pender County boundary | None | •75 |
Mill Run | At the confluence with Six Runs Creek | None | •86 | Unincorporated Areas of Sampson County.
| Approximately 1.9 miles upstream of Rowan Road | None | •111
Mill Swamp | At the confluence with Six Runs Creek | None | •102 | Unincorporated Areas of Sampson County.
| Approximately 2.5 miles upstream of Lake Artesia Road | None | •123 |
Mill Swamp Tributary | At the confluence with Mill Swamp | None | •122 | Unincorporated Areas of Sampson County.
| Approximately 0.4 mile upstream of the confluence with Mill Swamp | None | •125 |
Mingo Swamp | At the confluence with South River | None | •127 | Unincorporated Areas of Sampson County.
| At the Sampson/Harnett/Johnston County boundary | None | •173
Old Mill Swamp | At the confluence with Great Coharie Creek | None | •113 | Unincorporated Areas of Sampson County.
| Approximately 1 mile upstream of Church Road | None | •152
Peters Creek | At the confluence with Buckhorn Branch | None | •69 | Unincorporated Areas of Sampson County.
| Approximately 0.8 mile upstream of the confluence with Buckhorn Branch | None | •100
Pharisee Creek | At the Sampson/Duplin County boundary | None | •58 | Unincorporated Areas of Sampson County.
| Approximately 0.5 mile upstream of Wilmington Highway (U.S. Highway 421) | None | •67
Quewiffle Swamp | At the confluence with Six Runs Creek | None | •62 | Unincorporated Areas of Sampson County.
| Approximately 2.2 miles upstream of Trinity Church Road | None | •84
Railer Branch | At the confluence of Goshen Swamp | None | •135 | Unincorporated Areas of Sampson County.
| Approximately 0.5 mile upstream of Hollingsworth Road | None | •166
Rice Swamp | At the confluence with Little Coharie Creek | None | •99 | Unincorporated Areas of Sampson County, Town of Salemburg.
| Approximately 0.4 mile upstream of Zoar Church Road | None | •156
Robinson Mill Branch | At the confluence with Six Runs Creek | None | •56 | Unincorporated Areas of Sampson County.
| Approximately 1,100 feet upstream of Private Road | None | •114
Rocky Marsh Creek | At the confluece with Great Coharie Creek | None | •67 | Unincorporated Areas of Sampson County.
| Approximately 0.6 mile upstream of Peterson Road | None | •91
Rocky Marsh Creek Tributary | At the confluence with Rocky Marsh Creek | None | •78 | Unincorporated Areas of Sampson County.
| Approximately 1.2 miles upstream of the confluence with Rocky Marsh Creek | None | •138
Rowan Branch | At the confluence with Six Runs Creek | None | •82 | Unincorporated Areas of Sampson County.
| Approximately 1.3 miles upstream of Rowan Road | None | •140
Sevenmile Swamp | At the confluence with Great Coharie Creek | None | •129 | Unincorporated Areas of Sampson County.
| Approximately 0.9 mile upstream of Easy Street | None | •193
Shade Branch | At the confluence with Quewiffle Swamp | None | •80 | Unincorporated Areas of Sampson County.
| Approximately 1,900 feet upstream of Rogers Mill Road | None | •95
Six Runs Creek | At the confluece with Black River | None | •52 | Unincorporated Areas of Sampson County.
| Approximately 0.9 mile upstream of N. McCullen Road | None | •137
South River | At the confluence with Black River | None | •26 | Unincorporated Areas of Sampson County, Town of Autryville.
| At the confluence with Mingo Swamp | None | •127
South River Tributary 4 | At the confluence with South River | None | •127 | Unincorporated Areas of Sampson County.
| Approximately 650 feet upstream of the confluence with South River | None | •127
Spearmans Mill Creek | At the confluence with Six Runs Creek | None | •53 | Unincorporated Areas of Sampson County.
| Approximately 0.6 mile upstream of Hayes Chapel Road | None | •88
Starlins Swamp | At the confluence with Beaverdam Swamp | None | •138 | Unincorporated Areas of Sampson County.
| Approximately 0.4 mile upstream of Staley Hall Road | None | •177
Stewarts Creek (near Carroll) | At the confluence with Six Runs Creek | None | •67 | Unincorporated Areas of Sampson County.
| At the Sampson/Duplin County boundary | None | •83
Stony Run | At the confluence with Mingo Swamp | None | •158 | Unincorporated Areas of Sampson County.
| Approximately 600 feet upstream of the confluence with Mingo Swamp | None | •160
Tarkill Branch | At the confluence with Six Runs Creek | None | •52 | Unincorporated Areas of Sampson County.
| Approximately 0.8 mile upstream of Edmond Matthis Road | None | •97
Tenmile Swamp | At the confluence with Six Runs Creek | None | •97 | Unincorporated Areas of Sampson County.
| Approximately 1 mile upstream of McGowan Road | None | •135
Tenmile Swamp Tributary | At the confluence with Tenmile Swamp | None | •107 | Unincorporated Areas of Sampson County.
| Approximately 320 feet upstream of Thompson Avenue | None | •127
Turkey Creek | At the confluence with Six Runs Creek | None | •90 | Unincorporated Areas of Sampson County, Town of Turkey.
| At the Sampson/Duplin County boundary | None | •117
Twomile Swamp | At the confluence with Caesar Swamp | None | •147 | Unincorporated Areas of Sampson County.
| Approximately 1 mile upstream of Bynum Road | None | •162
Ward Swamp | At the confluence with Great Coharie Creek | None | •124 | Unincorporated Areas of Sampson County.
| Approximately 1.3 miles upstream of the confluence with Craddock Creek | None | •159
Ward Swamp Tributary 1 | At the confluence with Ward Swamp | None | •129 | Unincorporated Areas of Sampson County.
| Approximately 0.8 mile upstream of Hobbton Highway (U.S. Highway 701) | None | •156
Ward Swamp Tributary 2 | At the confluence with Ward Swamp Tributary 1 | None | •133 | Unincorporated Areas of Sampson County.
| Approximately 1 mile upstream of Share Cake Road | None | •158
Ward Swamp Tributary 3 | At the confluence with Ward Swamp | None | •133 | Unincorporated Areas of Sampson County.
| Approximately 2.1 miles upstream of Hobbton Highway (U.S. Highway 701) | None | •159
Ward Swamp Tributary 4 | At the confluence with Ward Swamp Tributary 3 | None | •138 | Unincorporated Areas of Sampson County.
| Approximately 0.8 mile upstream of the confluence with Ward Swamp Tributary 3 | None | •152
Williams Old Mill Branch Tributary | At the confluence with Williams Old Mill Branch | None | •121 | Unincorporated Areas of Sampson County, City of Clinton.
| Approximately 0.5 mile upstream of North Boulevard | None | •149
Williamson Swamp | At the confluence with Little Beaverdam Swamp | None | •129 | Unincorporated Areas of Sampson County.
| Approximately 340 feet upstream of Stanley Hall Road | None | •179
Wolf Pit Branch | At the confluence with Buckhorn Creek | None | •85 | Unincorporated Areas of Sampson County.
| Approximately 1,640 feet upstream of Ozzie Road | None | •120
Youngs Swamp | At the Sampson/Duplin County boundary | None | •117 | Unincorporated Areas of Sampson County.
| Approximately 1.9 miles upstream of Suttontown Road | None | •137
City of Clinton
Maps are available for inspection at Clinton City Hall, 227 Lisbon Street, Clinton, NC.
Send comments to The Honorable Lew Starling, Mayor of the City of Clinton, P.O. Box 199, Clinton, NC 28329-0199.
Town of Autryville
Maps are available for inspection at Autryville Town Hall, 215 South Gray Street, Autryville, NC.
Send comments to The Honorable Patricia Williams, Mayor of the Town of Autryville, P.O. Drawer 10, Autryville, NC 28318.
Town of Newton Grove
Maps are available for inspection at Newton Grove Town Hall, 304 West Weeksdale Street, Newton Grove, NC.
Send comments to The Honorable Gerald Darden, Mayor of the Town of Newton Grove, P.O. Box 4, Newton Grove, NC 28366.
Town of Salemburg
Maps are available for inspection at Salemburg Town Hall, 100 Methodist Drive, Salemburg, NC.
Send comments to The Honorable Bobby Strickland, Mayor of the Town of Salemburg, P.O. Box 190, Salemburg, NC 28385.
Town of Turkey
Maps are available for inspection at Turkey Town Hall, 51 Market Street, Turkey, NC.
Send comments to The Honorable Michael Cottle, Mayor of the Town of Turkey, P.O. Box 55, Turkey, NC 28393.
Unincorporated Areas of Sampson County
Maps are available for inspection at Sampson County Inspections Department, 335 County Complex Road, Clinton, NC.
Send comments to Mr. Scott Sauer, Sampson County Manager, 435 Rowan Road, Clinton, NC 28328.

(Catalog of Federal Domestic Assistance No. 83.100, “Flood Insurance.”)

Dated: September 14, 2005.
David I. Maurstad,
Acting Director, Mitigation Division, Emergency Preparedness and Response Directorate.

[FR Doc. 05-18727 Filed 9-19-05; 8:45 am]

BILLING CODE 9110-12-P